DEPARTMENT OF TRANSPORTATION

Federal Aviation Administration

14 CFR Part 73

[Docket No. FAA-2015-3758; Airspace Docket No. 15-ACE-1]

RIN 2120-AA66

Modification to Restricted Areas R-3602A and R-3602B; Manhattan, KS

AGENCY: Federal Aviation Administration (FAA), DOT.

ACTION: Final rule, technical amendment.

SUMMARY: This action amends Restricted Areas R-3602A and R-3602B, Manhattan, KS, to accurately identify the R-3602A and R-3602B boundary segments described using the Chicago, Rock Island and Pacific Railroad right-of-way, the R-3602A and R-3602B shared boundary segment described using Old U.S. Highway 77, and the R-3602A and Riley Military Operations Area (MOA) shared boundary segment described using the Milford Reservoir shoreline. The restricted area ceilings are also amended to be expressed as flight levels (FL), the Marshall Army Air Field Radio Beacon (RBN) referenced in R-3602B is changed to the Cavalry Nondirectional Beacon (NDB), and the restricted areas using agency information is updated to include the military service of the using agency. This action does not affect the overall restricted area boundaries, designated altitudes, times of designation, or activities conducted within the restricted areas. Additionally, boundary segment amendments of the Riley MOA, ancillary to the restricted area amendments, are being made. Since the R-3602A and R-3602B restricted areas share boundaries with the Riley MOA, the FAA included discussion of the Riley MOA amendments in this rule. Lastly, the MOA using agency is being amended to match the restricted areas using agency information.

DATES: Effective date 0901 UTC, December 10, 2015.

FOR FURTHER INFORMATION CONTACT: Colby Abbott, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it makes administrative changes to the descriptions of restricted areas R-3602A and R-3602B, Fort Riley, KS.

Background

In July 1967, the FAA published a rule in the Federal Register (32 FR 10296, July 13, 1967) establishing the Manhattan, KS, restricted areas R-3602A and R-3602B in support of U.S. Army requirements for firing various munitions including artillery, mortar, and rockets. Then, in November 1979, the FAA published another rule in the Federal Register (44 FR 68452, November 29, 1979) that amended R-3602B by reducing airspace in the southeast corner of the restricted area sufficient to permit an instrument approach to Runway 03 at the Manhattan Municipal Airport.

When established in 1967, and subsequently amended in 1979, the boundary descriptions for R-3602A and R-3602B used visual landmarks, including the Chicago, Rock Island and Pacific Railroad right-of-way; Old U.S. Highway 77; and the Milford Reservoir shoreline, to identify segments of the restricted area boundaries. However, the FAA has become aware that the railroad track was removed, portions of the railroad right-of-way are obscured by trees or has been plowed under for agriculture, and segments of the Old U.S. Highway 77 have been renamed S. Main Street in Riley, KS; 12400 Rd W.; and Governor Harvey Canyon Road. The visual landmarks originally used to define the restricted area boundaries are no longer useful for determining where the restricted area boundaries are located or where hazardous activities may be occurring to pilots unfamiliar with the Riley, KS, local area.

The FAA worked with the U.S. Army to redefine the affected boundary segments using geographic (latitude/longitude) coordinates. New restricted area boundary descriptions, using geographic coordinates, were developed to overlay the boundaries previously identified by the visual landmarks that no longer exist. As a result of amending the restricted area boundaries, corresponding amendments to the Riley MOA boundary were also deemed necessary to ensure the shared boundary segments between the restricted areas and MOA continued to align.

Additionally, when R-3602A and R-3602B were originally proposed and established, the FAA noted that numerous aircraft, both fixed and rotary wing, would participate in the training activities being accomplished. The restricted areas were established with the ceilings being expressed in feet above mean sea level (MSL); however, since aircraft operations were planned in the restricted areas, in addition to the artillery, mortar, and rocket fires being conducted, the ceilings should have been expressed in flight levels (FL). As such, the designated altitudes ceiling information listed in the restricted area descriptions are being amended accordingly.

Finally, the Marshall Army Air Field RBN navigation aid referenced in R-3602B was renamed the Cavalry NDB and the using agency information for R-3602A and R-3602B does not reflect the military service of the using agency listed, nor does it match the using agency for the associated Riley MOA which surrounds the restricted areas. To overcome these issues, the Marshall Army Air Field RBN name in R-3602B and the using agency information for the restricted areas and MOA are also being updated accordingly.

Military Operations Areas (MOA)

MOAs are established to separate or segregate non-hazardous military flight activities from aircraft operating in accordance with instrument flight rules (IFR), and to advise pilots flying under VFR where these activities are conducted. IFR aircraft may be routed through an active MOA only by agreement with the using agency and only when air traffic control can provide approved separation from the MOA activity. VFR pilots are not restricted from flying in an active MOA but are advised to exercise caution while doing so. MOAs are nonregulatory airspace areas that are established or amended administratively and published in the National Flight Data Digest (NFDD) rather than through rulemaking procedures. When a nonrulemaking action is ancillary to a rulemaking action, FAA procedures allow for the nonrulemaking changes to be included in the rulemaking action. Since the Riley MOA amendments are ancillary to the R-3602A and R-3602B amendments being made, the MOA changes are addressed in this rule as well as being published in the NFDD.

The Riley MOA boundary description is being amended to incorporate the geographic coordinates used in the R-3602A and R-3602B boundary descriptions to redefine the boundary segments previously defined by the Chicago, Rock Island and Pacific Railroad right-of-way, Old U.S. Highway 77, and the Milford Reservoir shoreline. This amendment will ensure shared boundaries with the updated restricted area descriptions and prevent airspace conflict with any potential SUA overlap resulting from the redefined boundary segments. With the advent of digital charting techniques and tools, the restricted area and MOA boundary coordinates associated with defining the pre-existing railroad right-of-way, the highway, and the reservoir shoreline are able to be accurately reflected by geographic coordinates. Lastly, the Riley MOA using agency is being amended to match the associated restricted areas using agency amendment. The amended boundaries description, and using agency information will be published in the NFDD; the rest of the MOA legal description is unchanged.

The Rule

This action amends 14 CFR part 73 by modifying restricted areas R-3602A and R-3602B at Fort Riley, KS. The FAA is taking this action to accurately define the restricted area boundaries using geographic coordinates to overcome the loss of the visual landmarks used previously, amend how the restricted area ceilings are expressed, correct the Marshall Army Air Field RBN name in R-3602B, and update the using agency information to include the military service. The following restricted area boundary, designated altitudes, and using agency information is amended as indicated:

The R-3602A boundary segment previously described by the Chicago, Rock Island and Pacific Railroad right-of-way is redefined using the geographic coordinates, “lat. 39°17′54″ N., long. 96°50′12″ W.; to lat. 39°17′43″ N., long. 96°52′27″ W.; to lat. 39°18′21″ N., long. 96°53′49″ W.; to lat. 39°18′09″ N., long. 96°55′04″ W.; to lat. 39°18′23″ N., long. 96°55′59″ W.; to lat. 39°18′24″ N., long. 96°57′39″ W.”

The R-3602B boundary segment previously described by the Chicago, Rock Island and Pacific Railroad right-or-way is redefined using the geographic coordinates, “lat. 39°13′15″ N., long. 96°42′36″ W.; to lat. 39°13′59″ N., long. 96°45′25″ W.; to lat. 39°14′34″ N., long. 96°45′58″ W.; to lat. 39°15′20″ N., long. 96°46′29″ W.; to lat. 39°16′57″ N., long. 96°48′47″ W.”

The R-3602A and R-3602B shared boundary segment previously described by Old U.S. Highway 77 is redefined using the geographic coordinates, “lat. 39°17′45″ N., long. 96°49′51″ W.; to lat. 39°08′22″ N., long. 96°49′53″ W.”

The R-3602A geographic coordinates used for identifying where the boundary intercepts the main body of the Milford Reservoir shoreline are updated to reflect “lat. 39°12′40″ N., long. 96°57′40″ W.″ and “lat. 39°10′58″ N., long. 96°54′39″ W.”

The R-3602A and R-3602B designated altitudes are amended to express the restricted area ceiling in terms of flight levels. The restricted area designated altitudes are changed to read, “Surface to FL 290.”

The R-3602B boundary information reference to the Marshall Army Air Field RBN navigation aid is amended to reflect the “Cavalry NDB.”

Lastly, the R-3602A and R-3602B using agency information is changed by prefacing the existing using agency with “U.S. Army.”

This change does not affect the boundaries, designated altitudes, activities conducted within the restricted areas or the actual physical location of the airspace; therefore, notice and public procedure under 5 U.S.C. 553(b) are unnecessary.

The corresponding restricted area boundary segment amendments noted previously are also made to the Riley MOA boundary information, as needed, to retain shared boundary segments with R-3602A and R-3602B. And, the Riley MOA using agency information is amended to match the restricted areas using agency information. The amended Riley MOA boundary and using agency information changes addressed in this rule will be published in the NFDD as a separate action with a matching effective date.

This action does not affect the overall restricted area or MOA boundaries; designated altitudes; times of designation; or activities conducted within the restricted areas and MOA.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, Environmental Impacts: Policies and Procedures, paragraph 5-6.5d. This action is an administrative change to the technical description of the affected restricted areas and is not expected to cause any potentially significant environmental impacts, and no extraordinary circumstances exists that warrant preparation of an environmental assessment.

List of Subjects in 14 CFR Part 73

Airspace, Prohibited areas, Restricted areas.

Adoption of the Amendment

In consideration of the foregoing, the Federal Aviation Administration amends 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.36 [Amended]

2. Section 73.36 is amended as follows:

R-3602A Manhattan, KS [Amended]

Boundaries. Beginning at lat. 39°17′45″ N., long. 96°49′51″ W.; to lat. 39°17′54″ N., long. 96°50′12″ W.; to lat. 39°17′43″ N., long. 96°52′27″ W.; to lat. 39°18′21″ N., long. 96°53′49″ W.; to lat. 39°18′09″ N., long. 96°55′04″ W.; to lat. 39°18′23″ N., long. 96°55′59″ W.; to lat. 39°18′24″ N., long. 96°57′39″ W.; to lat. 39°12′40″ N., long. 96°57′40″ W.; thence along the shoreline of the main body of Milford Reservoir to lat. 39°10′58″ N., long. 96°54′39″ W.; to lat. 39°10′58″ N., long. 96°53′14″ W.; to lat. 39°08′22″ N., long. 96°53′14″ W.; to lat. 39°08′22″ N., long. 96°49′53″ W.; to the point of beginning.

Designated altitudes. Surface to FL 290.

Time of designation. Continuous.

Controlling agency. FAA, Kansas City ARTCC.

Using agency. U.S. Army, Commanding General, Fort Riley, KS.

R-3602B Manhattan, KS [Amended]

Boundaries. Beginning at lat. 39°17′45″ N., long. 96°49′51″ W.; to lat. 39°08′22″ N., long. 96°49′53″ W.; to lat. 39°07′54″ N., long. 96°49′53″ W.; to lat. 39°04′24″ N., long. 96°52′23″ W.; to lat. 39°04′24″ N., long. 96°51′16″ W.; thence clockwise along the arc of a 4 nautical mile radius circle centered on the Cavalry NDB at lat. 39°01′34″ N., long. 96°47′40″ W.; to lat. 39°05′25″ N., long. 96°46′18″ W.; to lat. 39°06′25″ N., long. 96°44′41″ W.; to lat. 39°08′20″ N., long. 96°43′01″ W.; to lat. 39°09′23″ N., long. 96°43′01″ W.; to lat. 39°10′43″ N., long. 96°40′56″ W.; to lat. 39°12′17″ N., long. 96°40′56″ W.; to lat. 39°13′00″ N., long. 96°42′36″ W.; to lat. 39°13′15″ N., long. 96°42′36″ W.; to lat. 39°13′59″ N., long. 96°45′25″ W.; to lat. 39°14′34″ N., long. 96°45′58″ W.; to lat. 39°15′20″ N., long. 96°46′29″ W.; to lat. 39°16′57″ N., long. 96°48′47″ W.; to the point of beginning.

Designated altitudes. Surface to FL 290.

Time of designation. Continuous.

Controlling agency. FAA, Kansas City ARTCC.

Using agency. U.S. Army, Commanding General, Fort Riley, KS.

* * * * *

Issued in Washington, DC, on October 7, 2015.
Gary A. Norek,
Manager, Airspace Policy Group.

[FR Doc. 2015-26134 Filed 10-13-15; 8:45 am]

BILLING CODE 4910-13P